DEPARTMENT OF ENERGY

Federal Energy Regulatory Commission

Combined Notice of Filings #1

Take notice that the Commission received the following electric rate filings:

Docket Numbers: ER16-13-002.

Applicants: Southwest Power Pool, Inc.

Description: Compliance filing: Compliance Filing in ER16-13—Revisions to Att AE re Annual ARR Allocation to be effective 1/28/2016.

Filed Date: 3/21/16.

Accession Number: 20160321-5085.

Comments Due: 5 p.m. ET 4/11/16.

Docket Numbers: ER16-628-001.

Applicants: Florida Power & Light Company.

Description: Tariff Amendment: Florida Power & Light Response to Deficiency Letter to be effective 5/21/2016.

Filed Date: 3/21/16.

Accession Number: 20160321-5150.

Comments Due: 5 p.m. ET 4/11/16.

Docket Numbers: ER16-1234-000.

Applicants: New York State Electric & Gas Corporation.

Description: Tariff Cancellation: Cancellation of Services Agreement with FirstEnergy Service Company to be effective 3/19/2016.

Filed Date: 3/18/16.

Accession Number: 20160318-5154.

Comments Due: 5 p.m. ET 4/8/16.

Docket Numbers: ER16-1235-000.

Applicants: UNS Electric, Inc.

Description: Section 205(d) Rate Filing: Parker-Bagdad Interconnection Agreement to be effective 3/17/2016.

Filed Date: 3/18/16.

Accession Number: 20160318-5157.

Comments Due: 5 p.m. ET 4/8/16.

Docket Numbers: ER16-1236-000.

Applicants: Northern States Power Company, a Wisconsin corporation.

Description: Tariff Cancellation: 20160318_Cancellation to be effective 3/31/2016.

Filed Date: 3/18/16.

Accession Number: 20160318-5159.

Comments Due: 5 p.m. ET 4/8/16.

Docket Numbers: ER16-1237-000.

Applicants: Birdsboro Power LLC.

Description: Petition of Birdsboro Power LLC for Limited Waiver of PJM Open Access Transmission Tariff Competitive Entry Exemption Deadline and Request for Expedited Action.

Filed Date: 3/18/16.

Accession Number: 20160318-5175.

Comments Due: 5 p.m. ET 3/28/16.

Docket Numbers: ER16-1238-000.

Applicants: Avangrid Arizona Renewables, LLC.

Description: Section 205(d) Rate Filing: Avangrid Name change normal filing to be effective 3/22/2016.

Filed Date: 3/21/16.

Accession Number: 20160321-5068.

Comments Due: 5 p.m. ET 4/11/16.

Docket Numbers: ER16-1239-000.

Applicants: Avangrid Renewables, LLC.

Description: Section 205(d) Rate Filing: Avangrid Renewables Name change normal to be effective 3/22/2016.

Filed Date: 3/21/16.

Accession Number: 20160321-5069.

Comments Due: 5 p.m. ET 4/11/16.

Docket Numbers: ER16-1240-000.

Applicants: Alabama Electric Marketing, LLC.

Description: Section 205(d) Rate Filing: Market-Based Rate Tariff Revisions to be effective 3/22/2016.

Filed Date: 3/21/16.

Accession Number: 20160321-5105.

Comments Due: 5 p.m. ET 4/11/16.

Docket Numbers: ER16-1241-000.

Applicants: California Electric Marketing, LLC.

Description: Section 205(d) Rate Filing: Market-Based Rate Tariff Revisions to be effective 3/22/2016.

Filed Date: 3/21/16.

Accession Number: 20160321-5106.

Comments Due: 5 p.m. ET 4/11/16.

Docket Numbers: ER16-1242-000.

Applicants: Kiowa Power Partners, LLC.

Description: Section 205(d) Rate Filing: Market-Based Rate Tariff Revisions to be effective 3/22/2016.

Filed Date: 3/21/16.

Accession Number: 20160321-5108.

Comments Due: 5 p.m. ET 4/11/16.

Docket Numbers: ER16-1243-000.

Applicants: New Mexico Electric Marketing, LLC.

Description: Section 205(d) Rate Filing: Market-Based Rate Tariff Revisions to be effective 3/22/2016.

Filed Date: 3/21/16.

Accession Number: 20160321-5110.

Comments Due: 5 p.m. ET 4/11/16.

Docket Numbers: ER16-1244-000.

Applicants: Tenaska Frontier Partners, Ltd.

Description: Section 205(d) Rate Filing: Market-Based Rate Tariff Revisions to be effective 3/22/2016.

Filed Date: 3/21/16.

Accession Number: 20160321-5112.

Comments Due: 5 p.m. ET 4/11/16.

Docket Numbers: ER16-1245-000.

Applicants: Tenaska Gateway Partners, Ltd.

Description: Section 205(d) Rate Filing: Market-Based Rate Tariff Revisions to be effective 3/22/2016.

Filed Date: 3/21/16.

Accession Number: 20160321-5113.

Comments Due: 5 p.m. ET 4/11/16.

Docket Numbers: ER16-1246-000.

Applicants: Tenaska Power Management, LLC.

Description: Section 205(d) Rate Filing: Market-Based Rate Tariff Revisions to be effective 3/22/2016.

Filed Date: 3/21/16.

Accession Number: 20160321-5115.

Comments Due: 5 p.m. ET 4/11/16.

Docket Numbers: ER16-1247-000.

Applicants: Texas Electric Marketing, LLC.

Description: Section 205(d) Rate Filing: Market-Based Rate Tariff Revisions to be effective 3/22/2016.

Filed Date: 3/21/16.

Accession Number: 20160321-5117.

Comments Due: 5 p.m. ET 4/11/16.

Docket Numbers: ER16-1248-000.

Applicants: Tenaska Power Services Co.

Description: Section 205(d) Rate Filing: Market-Based Rate Tariff Revisions to be effective 3/22/2016.

Filed Date: 3/21/16.

Accession Number: 20160321-5171.

Comments Due: 5 p.m. ET 4/11/16.

Docket Numbers: ER16-1249-000.

Applicants: PJM Interconnection, L.L.C.

Description: Section 205(d) Rate Filing: Amendment to ISA No. 2631, Queue No. V2-019 to be effective7/28/2010.

Filed Date: 3/21/16.

Accession Number: 20160321-5189.

Comments Due: 5 p.m. ET 4/11/16.

Take notice that the Commission received the following qualifying facility filings:

Docket Numbers: QF16-546-000.

Applicants: UE-00212NJ.

Description: Form 556 of UE-00212NJ.

Filed Date: 3/16/16.

Accession Number: 20160316-5065.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2016.
Nathaniel J. Davis, Sr.,
Deputy Secretary.

[FR Doc. 2016-06779 Filed 3-24-16; 8:45 am]

BILLING CODE 6717-01-P